DEPARTMENT OF THE INTERIOR

National Park Service

[NPS-NCR-MAMC-25484; PPNCNACEN0, PPMPSAS1Z.Y00000]

Mary McLeod Bethune Council House National Historic Site Advisory Commission Notice of Public Meeting

AGENCY: National Park Service, Interior.

ACTION: Meeting notice.

SUMMARY: In accordance with the Federal Advisory Committee Act of 1972, the National Park Service (NPS) is hereby giving notice that the Mary McLeod Bethune Council House National Historic Site Advisory Commission will meet as indicated below.

DATES: The Commission will meet on Wednesday, June 20, 2018, at 9:00 a.m. (Eastern).

ADDRESSES: The meeting will be held in the conference room at the Museum Resource Center, National Capital Region, National Park Service, 3300 Hubbard Road, Hyattsville, MD 20785.

FOR FURTHER INFORMATION CONTACT: Alex Tremble, Senior Management Assistant, Office of the Superintendent, or Tara Morrison, Superintendent and Designated Federal Officer, National Capital Parks-East, 1900 Anacostia Drive SE, Washington, DC 20020, telephone (202) 690-5193 or email alex_tremble@nps.gov or tara_morrison@nps.gov.

SUPPLEMENTARY INFORMATION: The Commission is established by section 4 of Public Law 102-211 (16 U.S.C. 461 note). The purpose of the Commission is to fully participate in an advisory capacity with the Secretary of the Interior in the development of a General Management Plan for the historic site. The Commission will also, as often as necessary, but at least semiannually, meet and consult with the Secretary on matters relating to the management and development of the historic site.

Purpose of the Meeting: The purpose of the meeting is to discuss the following:

• Welcome and Introductions

• Discuss Duties/Responsibilities of the Chair

• Review/Approve December 16, 2016, Meeting Minutes

• Ethics Overview

• Park Updates and December 16, 2016, Action Items

• Status of National Historic Site Fire Suppression Project

• Archives

• Other National Historic Site Projects Funded and Proposed

• Budget

• FY 18 Work Plan

• The Election of Any Additional Officers

The proposed agenda may change to accommodate commission business. The final agenda for this meeting will be provided on the Park website at https://www.nps.gov/mamc/index.htm.

The meeting is open to the public. Interested persons may make oral/written presentations to the Commission during the business meeting or file written statements. Such requests should be made to the park superintendent prior to the meeting.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 5 U.S.C. Appendix 2.

Alma Ripps,
Chief, Office of Policy.

[FR Doc. 2018-11698 Filed 5-30-18; 8:45 am]

BILLING CODE 4312-52-P